FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Reporting, Recordkeeping, and Disclosure Requirements Associated with Regulation YY (FR YY; OMB No. 7100-0350).

DATES: The revisions are applicable as of September 25, 2024.

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above. On the page displayed at the link above, you can find the supporting information by referencing the collection identifier, FR YY.

Final Approval Under OMB Delegated Authority of the Extension for Three Years, With Revision, of the Following Information Collection

Collection title: Reporting, Recordkeeping, and Disclosure Requirements Associated with Regulation YY.

Collection identifier: FR YY.

OMB control number: 7100-0350.

General description of collection: Section 165 of the Dodd-Frank Wall Street Reform and Consumer Protection Act authorizes the Board to implement enhanced prudential standards and impose requirements related to stress tests on certain financial companies. The Board has relied on this authority to enact Regulation YY—Enhanced Prudential Standards (12 CFR part 252). The enhanced prudential standards and other requirements contained in Regulation YY include risk-based and leverage capital requirements, liquidity standards, requirements for overall risk management (including establishing a risk committee), stress test requirements, and debt-to-equity limits for companies that the Financial Stability Oversight Council has determined pose a grave threat to financial stability. The FR YY information collection includes reporting, recordkeeping, and disclosure requirements contained in Regulation YY.

Frequency: Quarterly, biennial, annual, and event-generated.

Respondents: U.S. bank holding companies, domestic and foreign nonbank systemically important financial institutions, state member banks, foreign banking organizations, and U.S. intermediate holding companies.

Total estimated number of respondents: 43.

Total estimated change in burden: 2,578.

Total estimated annual burden hours: 26,458.

Current actions: On March 29, 2024, the Board published a notice in the Federal Register (89 FR 22150) requesting public comment for 60 days on the extension, with revision, of the FR YY. The Board proposed to revise the FR YY to take into account existing provisions in Regulation YY that included information collections, but had not been included in previous clearances. The comment period for this notice expired on May 28, 2024. The Board did not receive any comments. The revisions will be implemented as proposed.

Board of Governors of the Federal Reserve System, September 17, 2024.
Benjamin W. McDonough,
Deputy Secretary and Ombuds of the Board.

[FR Doc. 2024-21910 Filed 9-24-24; 8:45 am]

BILLING CODE 6210-01-P